DEPARTMENT OF AGRICULTURE

Rural Housing service

Noice of Funding Availability (NOFA) for the Section 515 Rural Rental Housing Program for Fiscal Year 2000; Correction

AGENCY: Rural Housing Service (RHS), USDA.

ACTION: Correction.

SUMMARY: The Rural Housing service corrects a notice published December 21, 1999 (64 FR 71604). This action is taken to correct the point score for 0-4 percent leveraged assistance.

Accordingly, the notice published December 21, 1999 (64 FR 71604) is corrected as follows:

On page 71606, paragraph C. 1. (a), in the “Points” column, the point score “5” for “0-4” percentage of leveraging should read “0”. The corrected table reads as follows:

Percentage of leveraging | Points
75 or more | 20
70-74 | 19
65-69 | 18
60-64 | 17
55-59 | 16
50-54 | 15
45-49 | 14
40-44 | 13
35-39 | 12
30-34 | 11
25-29 | 10
20-24 | 9
15-19 | 8
10-14 | 7
5-9 | 6
0-4 | 0

Dated: January 18, 2000.
James C. Kearney,
Administrator, Rural Housing Service.

[FR Doc. 00-1912 Filed 1-27-00; 8:45 am]

BILLING CODE 310-XV-U